DEPARTMENT OF COMMERCE

National Oceanic and Atmospheric Administration

[RTID 0648-XD020]

Endangered Species; File No. 27233

AGENCY: National Marine Fisheries Service (NMFS), National Oceanic and Atmospheric Administration (NOAA), Commerce.

ACTION: Notice; receipt of application.

SUMMARY: Notice is hereby given that David Portnoy, Ph.D., Texas A&M University, Corpus Christi, TX 78412, has applied in due form for a permit to import scalloped hammerhead shark parts for purposes of scientific research.

DATES: Written, telefaxed, or email comments must be received on or before June 15, 2023.

ADDRESSES: The application and related documents are available for review by selecting “Records Open for Public Comment” from the “Features” box on the Applications and Permits for Protected Species (APPS) home page, https://apps.nmfs.noaa.gov, and then selecting File No. 27233 from the list of available applications. These documents are also available upon written request via email to NMFS.Pr1Comments@noaa.gov.

Written comments on this application should be submitted via email to NMFS.Pr1Comments@noaa.gov. Please include File No. 27233 in the subject line of the email comment.

Those individuals requesting a public hearing should submit a written request via email to NMFS.Pr1Comments@noaa.gov. The request should set forth the specific reasons why a hearing on this application would be appropriate.

FOR FURTHER INFORMATION CONTACT: Jennifer Skidmore or Erin Markin, Ph.D., (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant is requesting authorization to import scalloped hammerhead (Sphyrna lewini) parts for genetic analysis. Parts would be from animals that have been previously collected or opportunistically acquired from fish markets representing the following geographic locations: Mexico (Eastern Pacific Distinct Population Segment (DPS), up to 100 individuals), Sierra Leone (Eastern Atlantic DPS, up to 50 individuals), Cabo Verde (Eastern Atlantic DPS, up to 50 individuals), all other countries (Eastern Pacific DPS, up to 100 individuals), and all other countries (Eastern Atlantic DPS, up to 50 individuals). The requested duration of the permit is 6 years.

Dated: May 11, 2023.
Julia M. Harrison,
Chief, Permits and Conservation Division, Office of Protected Resources, National Marine Fisheries Service.

[FR Doc. 2023-10404 Filed 5-15-23; 8:45 am]

BILLING CODE 3510-22-P